DEPARTMENT OF COMMERCE

National Oceanic and Atmospheric Administration

RIN 0648-XA713

Endangered Species; File Nos. 16526, 16323, 16436, 16422, 16438, 16431, 16507, 16547, 16375, 16442, 16482, and 16508.

AGENCY: National Marine Fisheries Service (NMFS), National Oceanic and Atmospheric Administration (NOAA), Commerce.

ACTION: Notice; receipt of applications.

SUMMARY: Notice is hereby given that NMFS has received twelve applications applying in due form for permits to take Atlantic sturgeon (Acipenser oxyrinchus oxyrinchus) for purposes of scientific research.

DATES: Written, telefaxed, or e-mail comments must be received on or before October 21, 2011.

ADDRESSES: The application and related documents are available for review by selecting “Records Open for Public Comment” from the Features box on the Applications and Permits for Protected Species (APPS) home page, https://apps.nmfs.noaa.gov, and then selecting associated File No. from the list of available applications.

These documents are also available upon written request or by appointment in the offices listed in SUPPLEMENTARY INFORMATION.

Written comments on this application should be submitted to the Chief, Permits and Conservation Division, Office of Protected Resources, NMFS, 1315 East-West Highway, Room 13705, Silver Spring, MD 20910; phone (301) 427-8401; fax (301) 713-0376

• By e-mail to NMFS.Pr1Comments@noaa.gov (include the File No. in the subject line of the e-mail),

• By facsimile to (301) 713-0376, or

• At the address listed above.

Those individuals requesting a public hearing should submit a written request to the Chief, Permits and Conservation Division at the address listed above. The request should set forth the specific reasons why a hearing on this application would be appropriate.

FOR FURTHER INFORMATION CONTACT: Malcolm Mohead or Colette Cairns, (301) 427-8401.

SUPPLEMENTARY INFORMATION: The subject permits are requested under the authority of the Endangered Species Act of 1973, as amended (ESA; 16 U.S.C. 1531 et seq.) and the regulations governing the taking, importing, and exporting of endangered and threatened species (50 CFR 222-226).

Each of the twelve applications is summarized below. For specific take numbers of each research project, please refer to the associated application.

Gail Wippelhauser, PhD, [File No. 16526] of the Maine Department of Marine Resources, 21 State House Station, Augusta, ME 04333, requests a five year permit to determine the movement patterns and rate of exchange between coastal river systems in Maine, characterize the population structure and generate estimates of population abundance. Researchers would capture adult, juvenile, and early life stage Atlantic sturgeon. Individuals would be measured, weighed, photographed, PIT tagged, Floy/T-bar tagged, tissue sampled, boroscoped, apical spine sampled, blood sampled, anesthetized, fin ray sectioned, and be implanted with an acoustic telemetry tag.

Tom Savoy [File No. 16323] of the Connecticut Department of Environmental Protection, Marine Fisheries, P.O. Box 719, Old Lyme, CT 06371, requests a five year permit to monitor Atlantic sturgeon populations to determine behavior, movement and current status of the species in Connecticut waters. Adult and juvenile Atlantic sturgeon would be measured, weighed, photographed, PIT and Floy/T-bar tagged, genetic tissue sampled, anesthetized and have a fin ray clipped for ageing analysis, and a subset would be implanted with an internal sonic tag to assess movement patterns.

Kathryn Hattala [File No. 16436] of New York State Department of Environmental Conservation, 21 South Putt Corners Road, New Paltz, NY 12561, requests a five year permit to research Atlantic sturgeon in the Hudson River estuary, specifically to assess abundance of juveniles, characterize the adult spawning stock, and generate population estimates. Captured Atlantic sturgeon would be measured, weighed, PIT and dart tagged, tissue sampled, implanted with an external telemetry tag, anesthetized and gastric lavaged.

Stony Brook University (Keith Dunton, Responsible Party) [File No. 16422], School of Marine and Atmospheric Sciences, Stony Brook, NY 11794-5000, requests a five year permit to research Atlantic sturgeon in the marine and estuarine waters of Connecticut, New York, New Jersey, and Delaware. To characterize Atlantic sturgeon aggregations, Atlantic sturgeon would be captured, measured, weighed, Carlin/Dart tagged, PIT tagged, anesthetized, fin ray sampled, and genetic tissue sampled. Some sturgeon would additionally be implanted internally with a satellite tag, and others would be fitted with an external pop-up satellite tag. A subset of fish would be gastric lavaged, blood sampled and gill biopsied.

Hal Brundage [File No. 16438] of Environmental Research and Consulting, Inc., 126 Bancroft Road, Kennett Square, PA 19348, requests a five year permit to study juvenile Atlantic sturgeon abundance, distribution, movement, habitat preferences and biology in the Delaware River and Bay. The applicant would capture, measure, weigh, photograph, PIT and Floy tag, genetic tissue sample juvenile Atlantic sturgeon. A subset would be selected and be anesthetized, gastric lavaged, blood sampled, and implanted an internal sonic tag. Early life stage fish would also be lethally sampled.

Matthew Fisher [File No. 16431] of the Delaware Division of Fish and Wildlife, 4876 Hay Point Landing Road, Smyrna, DE 19977, requests a five year permit to sample juvenile Atlantic sturgeon in the Delaware River to locate nursery habitat, characterize population ecology and habitat use. Fish would be captured using gill nets, measured, weighed, photographed, PIT and Floy tagged, tissue sampled, anesthetized, gastric lavaged, and implanted with an internal sonic tag.

Dewayne Fox, PhD, [File No. 16507] of Delaware State University, 1200 North DuPont Highway, Dover, DE 19901, requests a five year permit to sample Atlantic and shortnose sturgeon in the Delaware River and Bay, as well as in the coastal waters of Delaware. The objectives of this research are to provide more detailed information on the spawning location of Atlantic sturgeon and to develop a fishery independent sampling program to help assess recovery of the species. The applicant would use gill nets to capture adult and juvenile Atlantic sturgeon and egg mats to capture larval fish. Adult and juvenile Atlantic sturgeon would be measured, weighed, photographed, PIT and Floy tagged, and tissue sampled; a subset would be anesthetized, implanted with an internal sonic tag and gonad tissue sampled.

Albert Spells of U.S. Fish and Wildlife Service, 11110 Kimages Road, Charles City, VA 23030 (Responsible Party) [File No. 16547] requests a five year permit in conjunction with other investigators in Maryland and Virginia to study Atlantic sturgeon in the Chesapeake Bay and its tributaries. Adult and juvenile Atlantic sturgeon would be captured using gill nets, trawls, fyke nets, trammel nets, and pound nets, and larval fish would be collected using egg mats. Adult and juvenile fish would be measured, weighed, tissue sampled, PIT and Floy tagged, and a subset of fish would have an external satellite tag attached.

Joe Hightower, PhD, [File No. 16375] of North Carolina State University, Campus Box 7617, Raleigh, NC 27695-7617, requests a five-year permit to determine the presence, abundance, and distribution of Atlantic sturgeon in North Carolina rivers and estuaries. The applicant would use gill nets to capture adult and juvenile Atlantic sturgeon. Captured fish would be measured, weighed, photographed, PIT tagged, Floy tagged, tissue sampled, and a sub-set would be implanted with an internal sonic tag.

Bill Post, [File No. 16442] of the South Carolina Department of Natural Resources, 217 Fort Johnson Road, Charleston, SC 29412, requests a five year permit to conduct scientific research on Atlantic sturgeon in the rivers and estuaries of South Carolina. Adult and juvenile Atlantic sturgeon would be captured using gill nets, and measured, weighed, photographed, PIT and dart tagged, tissue sampled, and a sub-set would be implanted with an internal satellite tag. Young of the year fish would be captured using trawls, and measured and weighed; larval fish would be collected with egg mats. This research would contribute to knowledge about Atlantic sturgeon coastal migrations and riverine movement patterns and information on the status of the species.

Doug Peterson, PhD, [File No. 16482] of the University of Georgia Warnell School of Forestry and Natural Resources Fisheries Division, Athens, GA 30602, requests a five year permit to determine population dynamics and seasonal habitat use of Atlantic sturgeon in Georgia. Gill nets and trammel nets would be used to capture adult and juvenile Atlantic sturgeon, which would be measured, weighed, photographed, PIT and Floy tagged, tissue sampled; a sub-set would also be anesthetized, laproscoped, fin ray clipped, and implanted with an internal satellite tag. Egg mats and D-frame nets would be used to collect larval fish.

Kenneth Sulak, PhD, [File No. 16508] of the U.S. Geological Survey, Florida Integrated Science Center, 7920 NW., 71st Street, Gainesville, FL 32653, requests a five year permit to identify and track Atlantic sturgeon in Florida and Georgia rivers. Adult and juvenile Atlantic sturgeon would be captured using a combination of side-scan sonar and gill nets. Captured individuals would be measured, weighed, photographed, PIT and Floy tagged, tissue sampled, and have an external satellite tag attached.

Documents may be reviewed in the following locations:

Northeast Region, NMFS, 55 Great Republic Drive, Gloucester, MA 01930; phone (978) 281-9328; fax (978) 281-9394; and

Southeast Region, NMFS, 263 13th Avenue South, Saint Petersburg, Florida 33701; phone (727) 824-5312; fax (727) 824-5309.

Dated: September 15, 2011.
P. Michael Payne,
Chief, Permits and Conservation Division, Office of Protected Resources, National Marine Fisheries Service.

[FR Doc. 2011-24243 Filed 9-20-11; 8:45 am]

BILLING CODE 3510-22-P